DEPARTMENT OF COMMERCE

Submission for OMB Review; Comment Request

The Department of Commerce (DOC) will submit to the Office of Management and Budget (OMB) for clearance the following proposal for collection of information under the emergency provisions of the Paperwork Reduction Act of 1995 (44 U.S.C. Chapter 35).

Bureau: International Trade Administration (ITA).

Title: Implementation of Tariff Rate Quota Established Under the Tax Relief and Health Care Act of 2006 for Imports of Certain Cotton Woven Fabrics.

Agency Form Number: None.

OMB Number: None.

Type of Request: Emergency submission.

Burden Hours: 10.

Number of Respondents: 10.

Average Hours Per Response: 1.

Needs and Uses: The Tax Relief and Heath Care Act of 2006 (“the Act”) contains provisions to assist the men's and boys” cotton shirting industry. Among these provisions, the Act creates an annual tariff rate quota (TRQ) providing for temporary reductions through December 31, 2009 in the import duties of cotton woven fabrics suitable for making men's and boys' cotton shirts (new Harmonized Tariff Schedule of the United States (HTS) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight cotton used by manufacturers in cutting and sewing men's and boy's cotton shirts in the United States and purchased by such manufacturer during calendar year 2000.

Section 406(b)(1) of the Act requires the Secretary of Commerce to fairly allocate the tariff rate quota. More specifically, the Secretary of Commerce must issue licenses and ensure that the tariff rate quota is fairly allocated to eligible manufacturers under such headings 9902.52.08 through 9902.52.19. The TRQ is effective for goods entered or withdrawn from warehouse for consumption, on or after January 1, 2007, and will remain in force through 2009. The TRQ will be allocated each year and a TRQ allocation will be valid only in the year for which it is issued.

The reduction of import duties provided by the TRQ will be of considerable benefit to firms that receive TRQ allocations. It will lower the firms' cost of production, enabling them to better compete with foreign imports.

The Department of Commerce has prepared, and will transmit to OMB for approval, an interim final rule to implement these responsibilities. The major firms that stand to benefit from the TRQ were consulted during this process.

The Department must collect a notarized affidavit in order to carry out its responsibilities under the Act pursuant to Section 406(b)(3) of the Act .

Affected Public: Business or other for-profit organizations.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th & Constitution Avenue, NW., Washington, DC 20230 or via the Internet at dHynek@doc.gov.

Written comments and recommendations for the proposed information collection should be sent by May 31, 2007 to David Rostker, OMB Desk Officer, via the Internet at David_Rostker@omb.eop.gov or fax (202) 395-7285.

Dated: May 3, 2007.
Gwellnar Banks,
Management Analyst, Office of the Chief Information Officer.

[FR Doc. E7-8834 Filed 5-8-07; 8:45 am]

BILLING CODE 3510-DS-P